Title 3—

The President

Proclamation 8020 of May 19, 2006

National Hurricane Preparedness Week, 2006

By the President of the United States of America

A Proclamation

During National Hurricane Preparedness Week, private organizations, public officials, and government agencies will highlight the preparations necessary for the new hurricane season that begins on June 1.

Last year, a record number of hurricanes caused unprecedented devastation across an entire region of our country. Our citizens along the Gulf Coast demonstrated their strength and resilience, and individuals across America revealed their compassion and resolve by opening their hearts, homes, and communities to those in need.

After these storms, Federal, State, and local governments have worked to enhance our Nation's ability to respond to large-scale natural disasters. The Federal Government has conducted an extensive review of preparedness and response efforts, and actions are being taken at all levels of government to improve communications and strengthen emergency response capabilities.

To help individuals, families, and businesses prepare for the future, the Department of Homeland Security provides checklists and information on natural disasters and other threats at ready.gov. By working together, government, private entities, and civic and charitable organizations can help increase preparedness for this year's hurricane season.

NOW, THEREFORE, I, GEORGE W. BUSH, President of the United States of America, by virtue of the authority vested in me by the Constitution and laws of the United States, do hereby proclaim May 21 through May 27, 2006, as National Hurricane Preparedness Week. I call upon government agencies, private organizations, schools, media, and residents in the coastal areas of our Nation to share information about hurricane preparedness and response to help save lives and protect communities.

IN WITNESS WHEREOF, I have hereunto set my hand this nineteenth day of May, in the year of our Lord two thousand six, and of the Independence of the United States of America the two hundred and thirtieth.

B

[FR Doc. 06-4868

Filed 5-23-06; 8:45 am]

Billing code 3195-01-P